NATIONAL SCIENCE FOUNDATION

Notice of Intent To Prepare an Environmental Impact Statement and Initiate Section 106 Consultation for Proposed Changes to Green Bank Observatory Operations, Green Bank, West Virginia and Notice of Public Scoping Meetings and Comment Period

AGENCY: National Science Foundation.

ACTION: Notice of intent to prepare an Environmental Impact Statement and Initiate Section 106 Consultation for proposed changes to Green Bank Observatory operations, Green Bank, West Virginia and notice of public scoping meetings and comment period.

SUMMARY: In compliance with the National Environmental Policy Act of 1969, as amended, the National Science Foundation (NSF) intends to prepare an Environmental Impact Statement (EIS) to evaluate potential environmental effects of proposed changes to operations at Green Bank Observatory, in Green Bank, West Virginia (Proposed Action). (See SUPPLEMENTARY INFORMATION for more details.) By this notice, NSF announces the beginning of the scoping process to solicit public comments and identify issues to be analyzed in the EIS. At this juncture, NSF welcomes public comments on the preliminary proposed alternatives and resource areas identified for analysis. NSF also intends to initiate consultation under section 106 of the National Historic Preservation Act to evaluate potential effects, if any, on historic properties as a result of the Proposed Action.

DATES: This Notice initiates the public scoping process for the EIS and the initiation of public involvement under section 106 per 36 CFR 800.2(d). Comments on the scope of the preliminary proposed alternatives and resource areas to be studied may be submitted verbally during the scoping meetings scheduled for November 9, 2016 (see details in SUPPLEMENTARY INFORMATION) or in writing until November 19, 2016. To be eligible for inclusion in the Draft EIS, all comments must be received prior to the close of the scoping period. NSF will provide additional opportunities for public participation upon publication of the Draft EIS.

ADDRESSES: You may submit written comments by either of the following methods:

• Email to: envcomp-AST-greenbank@nsf.gov, with subject line “Green Bank Observatory.”

• Mail to: Elizabeth Pentecost, RE: Green Bank Observatory, National Science Foundation, 4201 Wilson Blvd., Suite 1045, Arlington, VA 22230.

EIS INFORMATION: Information will be posted, throughout the EIS process, at www.nsf.gov/AST.

FOR FURTHER INFORMATION CONTACT: For further information regarding the EIS process or Section 106 consultation, contact: Elizabeth Pentecost, National Science Foundation, Division of Astronomical Sciences, 4201 Wilson Blvd., Suite 1045, Arlington, VA 22230; telephone: (703) 292-4907; email: epenteco@nsf.gov.

SUPPLEMENTARY INFORMATION: Green Bank Observatory (GBO) is located in Pocahontas County, West Virginia adjacent to the Monongahela National Forest. NSF owns the GBO land, which consists of numerous parcels acquired by the U.S. Army Corps of Engineers in the 1950s, when GBO was formed as the first (and then, only) site of the National Radio Astronomy Observatory (NRAO). The Allegheny Trail passes through portions of the NRAO property along the Little Mountain ridgeline. GBO is the anchor and administrative site of the 13,000-square-mile National Radio Quiet Zone (NRQZ). GBO is located on approximately 2,200 acres in the NRQZ, where all radio transmissions are limited. Having telescopes within the NRQZ allows for detection of faint scientific signals that would otherwise be drowned-out by man-made signals. The GBO facilities include the Robert C. Byrd Green Bank Telescope, the largest fully steerable radio telescope in the world; the 43-meter Telescope; the Green Bank Solar Radio Burst Spectrometer; the 20-meter Geodetic Telescope; the 40-foot Telescope; the Interferometer Range; and previously operational telescopes.

The NSF Directorate for Mathematical and Physical Sciences, Division of Astronomical Sciences, through a series of academic community-based reviews, has identified the need to divest several facilities from its portfolio. This would allow NSF to retain the balance of capabilities needed to deliver the best performance on emerging and key science technology of the present decade and beyond. In 2012, NSF's Division of Astronomical Sciences' (AST's) portfolio review committee recommended divestment of the Green Bank Telescope (GBT) from the AST portfolio, stating the following: “The GBT is the world's most sensitive single-dish radio telescope at wavelengths shorter than 10 cm; however, its capabilities are not as critical to New World New Horizons [astronomy and astrophysics decadal survey] science goals as the higher-ranked facilities.” In response to these recommendations, in 2016, NSF completed a feasibility study to inform and define options for the Observatory's future disposition that would involve significantly decreasing or eliminating NSF funding of Green Bank Observatory. Alternatives to be evaluated in the EIS will be refined through public input, with preliminary proposed alternatives that include the following:

• Continued NSF investment for science-focused operations (No-Action Alternative)

• Collaboration with interested parties for science- and education-focused operations with reduced NSF-funded scope

• Collaboration with interested parties for operation as a technology and education park

• Mothballing of facilities (suspension of operations in a manner such that operations could resume efficiently at some future date)

• Deconstruction and site restoration

The purpose of the public scoping process is to determine relevant issues that will influence the scope of the environmental analysis, including identifying viable alternatives. At present, NSF has identified the following preliminary resource areas to analyze potential impacts: Air quality, biological resources, cultural resources, geological resources, solid waste generation, health and safety, socioeconomics, traffic, and groundwater resources. NSF will consult under section 106 of the National Historic Preservation Act and section 7 of the Endangered Species Act in coordination with this EIS process, as appropriate. Federal, state, and local agencies, along with other stakeholders that may be interested or affected by NSF's decision on this Proposed Action are invited to participate in the scoping process and, if eligible, may request to participate as a cooperating agency.

Scoping Meetings: NSF will host two public scoping meetings.

• Afternoon meeting: November 9, 2016, at 3:00 p.m. to 5:00 p.m., Green Bank Science Center, 155 Observatory Road, Green Bank, WV 24915, Telephone: (304) 456-2011.

• Evening meeting: November 9, 2016, at 6:00 p.m. to 8:00 p.m., Green Bank Science Center, 155 Observatory Road, Green Bank, WV 24915, Telephone: (304) 456-2011.

Oral comments provided at the scoping meetings will be transcribed by a court reporter. Please contact NSF at least one week in advance of the meeting if you would like to request special accommodations (i.e., sign language interpretation, etc.).

Dated: October 13, 2016.
Suzanne H. Plimpton,
Reports Clearance Officer, National Science Foundation.

[FR Doc. 2016-25213 Filed 10-18-16; 8:45 am]

BILLING CODE 7555-01-P